DEPARTMENT OF HOMELAND SECURITY

Coast Guard

33 CFR Part 100

[CGD11-06-010]

RIN 1625-AA08

Special Local Regulations for Marine Events; San Francisco Bay Navy Fleet Week Parade of Ships and Air Show Demonstration, San Francisco Bay, CA

AGENCY: Coast Guard, DHS.

ACTION: Notice of enforcement.

SUMMARY: The Coast Guard will enforce the special local regulations (SLR's) in the navigable waters of San Francisco Bay for the annual U.S. Navy and City of San Francisco sponsored Fleet Week Parade of Navy Ships and Air Show Demonstration to be held October 5 thru October 8, 2006. This SLR will be used to keep spectator vessels out of the path of parading Navy ships and away from the area directly below participating aircraft during the air show in order to ensure the safety of event participants and spectators.

DATES: The regulations at 33 CFR 100.1105(b)(1), Regulated Area “Alpha” for Navy Parade of Ships will be enforced from 11 a.m. to 1 p.m. on October 7, 2006, while the regulations at 33 CFR 100.1105(b)(2), Regulated Area “Bravo” for the Fleet Week Air Show Demonstration will be enforced from 9 a.m. to 4 p.m. on October 5, 2006, 12:30 a.m. to 4:30 p.m. on October 6 and 7, and 1:30 p.m. to 4:30 p.m. on October 8, 2006.

FOR FURTHER INFORMATION CONTACT: Lieutenant Eric Ramos, Waterways Safety Branch, U.S. Coast Guard Sector San Francisco, at (415) 556-2950 Ext. 143 or the Sector San Francisco Command Center, at (415) 399-3547.

SUPPLEMENTARY INFORMATION: On October 1, 1993, the Coast Guard published a final rule (58 FR 51242) modifying the regulations in 33 CFR 100.1105, that establish regulated areas to ensure the safe execution of the San Francisco Bay Navy Fleet Week Parade of Ships and Air Show Demonstration. The U. S. Navy and City of San Francisco are sponsoring the Annual Fleet Week Parade of Navy Ships and Air Show Demonstration to be held October 5 thru October 8, 2006.

Due to the security concerns associated with the participating naval vessels and hazards associated with the air show demonstration, 33 CFR 100.1105 is necessary to provide for the safety of event participants, spectator craft, and other vessels transiting the event area. Under the provisions of 33 CFR 100.1105, a vessel may not enter Regulated area “Alpha” or “Bravo”, unless it receives permission from the Coast Guard Patrol Commander. Additionally, no person or vessel may enter or remain within 500 yards ahead of the lead Navy parade vessel, within 200 yards astern of the last parade vessel, or within 200 yards on either side of any parade vessel. Spectator vessels may safely transit outside the regulated area but may not anchor, block, loiter in, or impede the transit of ship parade participants or official patrol vessels. The Coast Guard may be assisted by other Federal, State, or local law enforcement agencies in enforcing the SLR.

Because this SLR will be in effect for a limited period, it should not result in a significant disruption of maritime traffic. Additionally, the maritime community will be provided advance notification of these events via the Local Notice to Mariners.

Dated: September 8, 2006.
J.A. Breckenridge,
Rear Admiral, U.S. Coast Guard Commander, Eleventh Coast Guard District.

[FR Doc. E6-16312 Filed 10-2-06; 8:45 am]

BILLING CODE 4910-15-P